DEPARTMENT OF ENERGY

Federal Energy Regulatory Commission

Combined Notice of Filings

Take notice that the Commission has received the following Natural Gas Pipeline Rate and Refund Report filings:

Docket Number: PR20-19-000.

Applicants: NET Mexico Pipeline Partners, LLC.

Description: Tariff filing per 284.123(b)(2)+(g): Petition for NGPA Section 311 Rate Approval to be effective 12/30/2019 under PR20-19 Filing.

Filed Date: 12/31/19.

Accession Number: 201912315075.

Comments Due: 5 p.m. ET 1/21/20.

284.123(g) Protests Due: 5 p.m. ET 3/2/20.

Docket Number: PR20-20-000.

Applicants: American Midstream (Alabama Intrastate), LLC.

Description: Tariff filing per 284.123(b)(2)+(g): American Midstream (Alabama Intrastate), LLC Rate Petition to be effective 12/31/2019 under PR20-20.

Filed Date: 1/2/20.

Accession Number: 202001025132.

Comments Due: 5 p.m. ET 1/23/20.

284.123(g) Protests Due: 5 p.m. ET 3/2/20.

Docket Numbers: RP20-393-000.

Applicants: Iroquois Gas Transmission System, L.P.

Description: § 4(d) Rate Filing: 010220 Negotiated Rates—Wells Fargo Commodities, LLC R-7810-17 to be effective 1/1/2020.

Filed Date: 1/2/20.

Accession Number: 20200102-5015.

Comments Due: 5 p.m. ET 1/14/20.

Docket Numbers: RP20-394-000.

Applicants: Iroquois Gas Transmission System, L.P.

Description: § 4(d) Rate Filing: 010220 Negotiated Rates—Wells Fargo Commodities, LLC R-7810-18 to be effective 1/1/2020.

Filed Date: 1/2/20.

Accession Number: 20200102-5016.

Comments Due: 5 p.m. ET 1/14/20.

Docket Numbers: RP20-395-000.

Applicants: Rover Pipeline LLC.

Description: § 4(d) Rate Filing: Summary of Negotiated Rate Capacity Release Agreements on 1-2-20 to be effective 1/1/2020.

Filed Date: 1/2/20.

Accession Number: 20200102-5061.

Comments Due: 5 p.m. ET 1/14/20.

Docket Numbers: RP20-397-000.

Applicants: Equitrans, L.P.

Description: § 4(d) Rate Filing: Expired Negotiated Rate Agreements—12/31/2019 to be effective 2/2/2020.

Filed Date: 1/2/20.

Accession Number: 20200102-5137.

Comments Due: 5 p.m. ET 1/14/20.

Docket Numbers: RP20-398-000.

Applicants: Iroquois Gas Transmission System, L.P.

Description: § 4(d) Rate Filing: 010220 Negotiated Rates—Mercuria Energy America, Inc. R-7540-02 to be effective 1/1/2020.

Filed Date: 1/2/20.

Accession Number: 20200102-5139.

Comments Due: 5 p.m. ET 1/14/20.

Docket Numbers: RP20-399-000.

Applicants: Equitrans, L.P.

Description: § 4(d) Rate Filing: Negotiated Capacity Release Agreements—1/1/2020 to be effective 12/31/9998.

Filed Date: 1/2/20.

Accession Number: 20200102-5276.

Comments Due: 5 p.m. ET 1/14/20.

Docket Numbers: RP20-400-000.

Applicants: Gulf South Pipeline Company, LLC.

Description: § 4(d) Rate Filing: Cap Rel Neg Rate Agmts (Atlanta Gas 8438 releases eff 1-1-2020) to be effective 1/1/2020.

Filed Date: 1/2/20.

Accession Number: 20200102-5279.

Comments Due: 5 p.m. ET 1/14/20.

Docket Numbers: RP20-401-000.

Applicants: Gulf South Pipeline Company, LLC.

Description: § 4(d) Rate Filing: Cap Rel Neg Rate Agmts (Aethon 37657, 50488 to Scona 52024, 52023) to be effective 1/1/2020.

Filed Date: 1/2/20.

Accession Number: 20200102-5282.

Comments Due: 5 p.m. ET 1/14/20.

Docket Numbers: RP20-402-000.

Applicants: Gulf South Pipeline Company, LLC.

Description: § 4(d) Rate Filing: Cap Rel Neg Rate Agmt (Calyx 51780 to BP 51921) to be effective 1/1/2020.

Filed Date: 1/2/20.

Accession Number: 20200102-5291.

Comments Due: 5 p.m. ET 1/14/20.

Docket Numbers: RP20-403-000.

Applicants: Gulf South Pipeline Company, LLC.

Description: § 4(d) Rate Filing: Cap Rel Neg Rate Agmt (Constellation 51978 to Exelon 52033) to be effective 1/1/2020.

Filed Date: 1/2/20.

Accession Number: 20200102-5286.

Comments Due: 5 p.m. ET 1/14/20.

Docket Numbers: RP20-404-000.

Applicants: Gulf South Pipeline Company, LLC.

Description: § 4(d) Rate Filing: Cap Rel Neg Rate Agmt (Panda 624 to NextEra 51920) to be effective 1/1/2020.

Filed Date: 1/2/20.

Accession Number: 20200102-5287.

Comments Due: 5 p.m. ET 1/14/20.

Docket Numbers: RP20-405-000.

Applicants: Gulf South Pipeline Company, LLC.

Description: § 4(d) Rate Filing: Amendment to Neg Rate Agmt (Clearwater 51774) to be effective 1/1/2020.

Filed Date: 1/2/20.

Accession Number: 20200102-5242.

Comments Due: 5 p.m. ET 1/14/20.

Docket Numbers: RP20-406-000.

Applicants: Gulf South Pipeline Company, LLC.

Description: § 4(d) Rate Filing: Cap Rel Neg Rate Agmts (Osaka 46429 to ConocoPhillips 52017, Texla 52027) to be effective 1/1/2020.

Filed Date: 1/2/20.

Accession Number: 20200102-5249.

Comments Due: 5 p.m. ET 1/14/20.

Docket Numbers: RP20-407-000.

Applicants: Enable Mississippi River Transmission, LLC.

Description: § 4(d) Rate Filing: Negotiated Rate Filing—CES RP18-923 & RP20-131 Settlement to be effective 1/1/2019.

Filed Date: 1/2/20.

Accession Number: 20200102-5295.

Comments Due: 5 p.m. ET 1/14/20.

Docket Numbers: RP20-408-000.

Applicants: Equitrans, L.P.

Description: § 4(d) Rate Filing: Revised—Negotiated Capacity Release Agreements—1/1/2020 to be effective 1/1/2020.

Filed Date: 1/3/20.

Accession Number: 20200103-5000.

Comments Due: 5 p.m. ET 1/15/20.

Docket Numbers: RP20-409-000.

Applicants: Enable Mississippi River Transmission, LLC.

Description: § 4(d) Rate Filing: Negotiated Rate Filing—Mississippi Lime RP18-923 & RP20-131 Settlement to be effective 1/1/2019.

Filed Date: 1/3/20.

Accession Number: 20200103-5001.

Comments Due: 5 p.m. ET 1/15/20.

Docket Numbers: RP20-410-000.

Applicants: Texas Eastern Transmission, LP.

Description: § 4(d) Rate Filing: Name Change Cleanup Filing—Toshiba to Total to be effective 2/3/2020.

Filed Date: 1/3/20.

Accession Number: 20200103-5008.

Comments Due: 5 p.m. ET 1/15/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 6, 2020.
Kimberly D. Bose,
Secretary.

[FR Doc. 2020-00221 Filed 1-9-20; 8:45 am]

BILLING CODE 6717-01-P